DEPARTMENT OF HEALTH AND HUMAN SERVICES

National Institutes of Health

National Institute on Drug Abuse Amended; Notice of Meeting

Notice is hereby given of a change in the meeting of the National Institute on Drug Abuse Special Emphasis Panel, November 13, 2015, 01:00 p.m. to November 13, 2015, 05:00 p.m., National Institutes of Health, Neuroscience Center, 6001 Executive Boulevard, Rockville, MD, 20852 which was published in the Federal Register on October 22, 2015, 80 FR 64428.

The date of the meeting was changed to December 1, 2015. The meeting is closed to the public.

Dated: November 12, 2015.
Natasha Copeland,
Program Analyst, Office of Federal Advisory Committee Policy.

[FR Doc. 2015-29379 Filed 11-17-15; 8:45 am]

BILLING CODE 4140-01-P